DEPARTMENT OF AGRICULTURE

Forest Service

BLT Vegetation Management Project, Deschutes National Forest, Klamath County, OR

AGENCY: Forest Service, USDA.

ACTION: Notice of intent to prepare an environmental impact statement.

SUMMARY: The USDA, Forest Service, will prepare an environmental impact statement (EIS) on a proposed action to address forest health and hazardous fuels concerns within the 14,800 acre planning area known as the BLT Vegetation Project. The planning area is located in the Upper Little Deschutes Watershed, which includes the upper reaches of the Little Deschutes River; it is located in T.25-26 S, R. 6½E; T. 25-26 S, R. 7E; T. 24S, R. 8 E. The alternatives will include the proposed action, no action, and additional alternatives that respond to issues generated through the scoping process. The agency will give notice of the full environmental analysis and decision making process so interested and affected people may participate and contribute to the final decision.

DATES: Comments concerning the scope of the analysis must be received by 30 days following the date that this notice appears in the Federal Register.

ADDRESSES: Send written comments to Phil Cruz, District Ranger, Crescent Ranger District, PO Box 208, Crescent, Oregon 97733.

FOR FURTHER INFORMATION CONTACT: Chris Mickle, Environmental Coordinator, Crescent Ranger District, PO Box 208, Crescent, Oregon 97773, phone (541) 433-3200. E-mail lcmickle@fs.fed.us.

Responsible Official: The responsible official will be Leslie Weldon, Forest Supervisor, Deschutes National Forest, PO Box 1654 Hwy 20 East, Bend, OR 97701.

SUPPLEMENTARY INFORMATION: Purpose and Need. Current conditions on the landscape indicate that forests are moving toward late seral stages, with stand structure becoming more complex and more susceptible to stand replacement events. Stands once dominated by large trees (greater than 21 inches in diameter) have a steadily increasing amount of smaller trees. In many areas the large trees do not dominate the forest sufficiently to provide adequately for species that depend on late- and old-structure habitat. Overcrowding and competition with the young, smaller trees are causing the large-tree component to decline. This may occur slowly through insect/disease outbreaks, or more rapidly through large-scale fire events.

In addition to unhealthy conditions for large trees, mortality resulting from insect and disease outbreaks has created dead fuel build up. High levels of blowdown in some areas increase the fuel loadings. Some lodgepole pine stands have an overstory that is in poor condition, with heavy mistletoe in some cases. This poses a condition that could impede development of a health understory.

In some parts of the project area, homes and personal property lie adjacent to Forest land, creating what is known as “wildland-urban interface.” There is a need to reduce hazardous fuels in those areas to increase the ability to control wildfire. This will improve safety for firefighters and residents and reduce the risk of high intensity fire destroying private property as well as important forest habitats.

Specifically, the purpose and need of the proposed action is to:

—Reduce stand density where it is too high to promote development of large tree structure.

—Reduce the level of hazardous fuels including ladder and surface fuels. Return fire to the ecosystem.

—Improve conditions in lodgepole pine where the overstory is in poor condition because of mistletoe or other diseases or insects.

—Maintain or improve late and old structured stands, and reduce the risk to the ecosystem posed by large-scale, catastrophic outbreaks of insects, disease, and fire.

—Address fire hazard in the wildland-urban interface by creating fuel breaks around subdivisions.

—Take advantage of opportunities resulting from vegetation management activities that offset costs and provide products to stimulate the economy.

Proposed Action. The proposed actions are intended to sustain, enhance, and protect long-term productivity and resiliency of the forest ecosystem, maintain and enhance wildlife habitat, recreational opportunities, and quality scenic values, and address concerns within the wildland/urban interface. Proposed actions include selection harvest, commercial thinning, small tree thinning and ladder fuels reduction, activity fuels treatments, and prescribed underburning to treat natural fuels.

Issues. The following is a list of concerns or issues related to the proposed action that the interdisciplinary team has identified. Other issues arise from public input. Where issues cannot be resolved through project design or mitigation, they may be the basis for developing alternatives to the Proposed Action.

• Soil Productivity: Maintenance of soil productivity is an important objective for management of National Forest lands.

• Water Quality and Fish Habitat: The Little Deschutes River is listed on the 2002 303(d) list as “Water Quality Limited” by the Oregon Department of Environmental quality. Activities proposed must improve conditions in the stream, or at least ensure that the conditions are not further degraded.

• Wildlife Habitat: Within the project area, treatment aimed at improving forest health conditions and reducing fuels have the potential to reduce certain attributes important to some species of wildlife habitat.

• Special Forest Products: The project area includes habitat and popular harvesting areas for matsutake mushrooms. Vegetation and/or fuels treatments have the potential to affect matsutake growing conditions, both beneficially and adversely.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.279d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public view by April, 2006. The EPA will publish a Notice of Availability (NOA) of the draft EIS in the Federal Register. The final EIS is scheduled to be available July, 2006.

The comment period on the draft EIS will be 45 days from the date the EPA publishes notice of availability in the Federal Register.

The Forest Service believes, at this early stage, it is important to give reviewers notice of several court rulings to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where, and whether or not to thin stands, salvage excess dead and dying lodgepole pine, and apply natural fuels treatments. The responsible official will also decide how to mitigate impacts of these actions and will determine when and how monitoring of effects will take place.

The BLT Vegetation Project decision and the reasons for the decision will be documented in the record of decision. That decision will be subject to Forest Service Appeal Regulations (35 CFR part 215).

Dated: March 28, 2005.
Leslie A.C. Weldon,
Forest Supervisor, Deschutes National Forest.

[FR Doc. 05-6442 Filed 3-31-05; 8:45 am]

BILLING CODE 3410-11-M